DEPARTMENT OF TRANSPORTATION

Federal Aviation Administration

Ninth Meeting, Special Committee 215 Aeronautical Mobile Satellite (Route) Services Next Generation Satellite Services and Equipment

AGENCY: Federal Aviation Administration (FAA), DOT.

ACTION: Notice of RTCA Special Committee 215, Aeronautical Mobile Satellite (Route) Services, Next Generation Satellite Services and Equipment.

SUMMARY: The FAA is issuing this notice to advise the public of a second meeting of RTCA Special Committee 215, Aeronautical Mobile Satellite (Route) Services, Next Generation Satellite Services and Equipment.

DATES: The meeting will be held September 3-4, 2008, at 9 a.m.

ADDRESS: The meeting will be held at RTCA Headquarters, 1828 L Street, NW., Washington, DC 20036.

FOR FURTHER INFORMATION CONTACT: RTCA Secretariat, 1828 L Street, NW., Suite 805, Washington, DC, 20036; telephone (202) 833-9339; fax (202) 833-9434; Web site http://www.rtca.org for directions. POC: Mr. David Pitoniak, Phone: 713-324 3907. Note: Dress is Business Casual.

SUPPLEMENTARY INFORMATION: Pursuant to section 10(a)(2) of the Federal Advisory Committee Act (Pub. L. 92-463, 5 U.S.C., Appendix 2), notice is hereby given for a Special Committee 215 meeting, The agenda will include:

• September 3-4:

○ Opening Plenary Session (Welcome, Introductions, and Administrative Remarks, Review and Approval of Agenda for Ninth Plenary)

○ Review of Proposed Revisions to Terms of Reference (TOR)

■ Review and Approval of Eighth Meeting Summary (215-061; RTCA Paper No. 295-07/SC215-XXX)

○ DO-262 Normative Appendix

■ Status Update of Final Draft

■ Review and Approval of Proprietary Documentation White Paper

■ Review of Action List and Outstanding Actions

■ Revision of TSO C-159 (FAA)

○ DO-270 Normative Appendix

■ Report from Drafting Group

■ Review of Action List and Outstanding Actions

■ Subnetwork Operational Approval Process

○ Closing Plenary Session (Other Business, Schedule Next Plenary Meeting, Adjourn—Thursday, September 4, 2008; 12 noon).

Attendance is open to the interested public but limited to space availability. With the approval of the chairmen, members of the public may present oral statements at the meeting. Persons wishing to present statements or obtain information should contact the person listed in the “FOR FURTHER INFORMATION CONTACT” section. Members of the public may present a written statement to the committee at any time.

Issued in Washington, DC, on August 6, 2008.
Francisco C. Estrada,
RTCA Advisory Committee.

[FR Doc. E8-18646 Filed 8-12-08; 8:45 am]

BILLING CODE 4910-13-M